DEPARTMENT OF ENERGY

Federal Energy Regulatory Commission

[Docket No. IC21-14-000]

Commission Information Collection Activities (FERC-516g); Comment Request; Revision and Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-516G (Electric Rates Schedules and Tariff Filings), as it would be revised in this information collection request. The Commission will submit this request to the Office of Management and Budget (OMB) for review.

DATES: Comments on the collection of information are due July 26, 2021.

ADDRESSES: Send written comments on FERC-516G to OMB through www.reginfo.gov/public/do/PRAMain, Attention: Federal Energy Regulatory Commission Desk Officer. Please identify the OMB control number (1902-0295) in the subject line. Your comments should be sent within 30 days of publication of this notice in the Federal Register.

Please submit copies of your comments (identified by Docket No. IC21-14-000) to the Commission as noted below. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: Electric Rates Schedules and Tariff Filings.

OMB Control No.: 1902-0295.

Type of Request: Three-year revision and renewal of FERC-516G.

Type of Respondents: Independent System Operators (ISOs) and Regional Transmission Organizations (RTOs).

Abstract: In accordance with 18 CFR 35.28(g)(10), each RTO and ISO must post information regarding uplift on a publicly accessible portion of its website. In this context, “uplift” refers to payments that a regional grid operator makes to a resource whose commitment and dispatch result in a shortfall between the costs in the resource's offer and the revenue earned through market clearing prices. At minimum, the information must include:

• Uplift, paid in dollars, and categorized by transmission zone, day, and uplift category, to be posted within 20 calendar days of the end of each month;

• The resource name and the total amount of uplift paid in dollars aggregated across the month to each resource that received uplift payments within the calendar month, to be posted within 90 calendar days of the end of each month; and

• Each operator-initiated commitment, listing the size of the commitment, transmission zone, commitment reason,¹ and commitment start time, to be posted within 30 calendar days of the end of each month.

¹ Commitment reasons may include, but are not limited to, system-wide capacity, constraint management, and voltage support.

As originally cleared by OMB, FERC-516G also included a one-time requirement that ITOs and RTOs revise their tariffs in accordance with 18 CFR 35.28(g)(10)(iii). The relevant tariffs have been revised, and FERC is now requesting removal of that information collection activity.

Estimate of Annual Burden: The estimated burden and cost ² for the requirements contained in 18 CFR 35.28(g)(10) are as follows:

² The hourly cost estimate is based on data from the Bureau of Labor Statistics for three occupational categories for 2020 involved in the reporting and recordkeeping requirements. These figures include salary (https://www.bls.gov/oes/current/oes_nat.htm) and benefits and are:

• Manager (Occupation Code 11-0000): $97.15/hour.

• Electrical Engineer (Occupation Code 17-2071): $70.19/hour.

• File Clerk (Occupation Code 43-4071): 34.70/hour.

The estimated hourly cost for the reporting requirement ($67.38) is an average of the costs listed above.

FERC-516G Annual Burden Estimates in Docket No. IC21-14-000
Type of response | Number of respondents | Annual number of responses per respondent | Total number of responses (Column B × Column C) | Average burden hours & cost per response | Total annual burden hours & cost (Column D × Column E) | Cost per respondent (Column F ÷ Column B)
A. | B. | C. | D. | E. | F. | G.
Preparing and Posting of 3 reports on company website each month | 6 | 12 | 72 | 3 hrs.; $202.14 | 216 hrs.; $14,554.08 | $2,425.68

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 15, 2021.
Kimberly D. Bose,
Secretary.

[FR Doc. 2021-13375 Filed 6-23-21; 8:45 am]

BILLING CODE 6717-01-P